DEPARTMENT OF STATE

[Delegation of Authority No. 566]

Delegation of Authority; Authorities of the Under Secretary for Arms Control and International Security

By virtue of the authority vested in the Secretary of State by the laws of the United States, including section 1(a)(4) of the State Department Basic Authorities Act (22 U.S.C. 2651a(a)(4)), I hereby delegate to C.S. Eliot Kang, to the extent authorized by law, all authorities vested in or delegated to the Under Secretary for Arms Control and International Security by any act, order, determination, delegation of authority, regulation, or executive order, now or hereafter issued.

The Secretary, Deputy Secretary, Deputy Secretary for Management and Resources, and the Under Secretary for Management may exercise any function or authority delegated herein. This delegation of authority does not modify any other delegation of authority currently in effect.

This delegation will be effective on December 31, 2024, and will expire upon the entry upon duty of a confirmed Under Secretary for Arms Control and International Security unless sooner revoked and shall be published in the Federal Register.

Dated: December 20, 2024.
Antony J. Blinken,
Secretary of State.

[FR Doc. 2025-00269 Filed 1-8-25; 8:45 am]

BILLING CODE 4710-10-P